DEPARTMENT OF THE INTERIOR

Fish and Wildlife Service

[Docket No. FWS-HQ-IA-2018-0011; FXIA16710900000-178-FF09A30000]

Foreign Endangered Species; Receipt of Permit Applications

Correction

In notice document 2018-10536 appearing on pages 22988-22989 in the issue of May 17, 2018, make the following correction:

On page 22988, in the first column, the Subject Heading is corrected to read as set forth above.

[FR Doc. C1-2018-10536 Filed 5-21-18; 8:45 am]

BILLING CODE 1301-00-D